ENVIRONMENTAL PROTECTION AGENCY

[FRL-9958-04-ORD]

Environmental Laboratory Advisory Board (ELAB) Meeting Dates and Agenda

AGENCY: Environmental Protection Agency (EPA).

ACTION: Notice of teleconferences and face-to-face meetings.

The Environmental Protection Agency's Environmental Laboratory Advisory Board (ELAB), as previously announced, holds teleconference meetings the third Wednesday of each month at 1:00 p.m. ET and two face-to-face meetings each calendar year. For 2017, teleconference only meetings will be February 15, March 15, April 19, May 17, June 21, July 19, September 20, October 18, November 15, and December 20, to discuss the ideas and views presented at the previous ELAB meetings, as well as new business. Items to be discussed by ELAB during the monthly meetings include: (1) Issues in continuing the expansion of national environmental accreditation; (2) ELAB support to the Agency on issues relating to measurement and monitoring for all programs; and (3) follow-up on some of ELAB's past recommendations and issues. In addition to the teleconferences, ELAB will hold two face-to-face meetings with teleconference line also available on January 23, 2017 at the Hyatt Regency Houston Galleria in Houston, TX at 1:00 p.m. (CT) and on August 7, 2017 at the Hyatt Regency in Washington, DC at 1:00 p.m. (ET). Written comments on laboratory accreditation issues and/or environmental monitoring or measurement issues are encouraged and should be sent to Ms. Lara P. Phelps, Designated Federal Official, U.S. EPA (E243-05), 109 T.W. Alexander Drive, Research Triangle Park, NC 27709 or emailed to phelps.lara@epa.gov. Members of the public are invited to listen to the teleconference calls, and time permitting, will be allowed to comment on issues discussed during this and previous ELAB meetings. Those persons interested in participating should call Lara P. Phelps at (919) 541-5544 to obtain teleconference information. For information on access or services for individuals with disabilities, please contact Lara P. Phelps at the number above. Requests for accommodation of a disability should be made at least 10 days prior to the meeting, to give EPA as much time as possible to process your request.

Thomas A. Burke,
EPA Science Advisor.

[FR Doc. 2017-00745 Filed 1-12-17; 8:45 am]

BILLING CODE 6560-50-P